DEPARTMENT OF STATE

[Public Notice 5066]

Announcement of Meeting of the International Telecommunication Advisory Committee

SUMMARY: The International Telecommunication Advisory Committee announces a meeting to prepare positions for the next meeting of the ITU-T Study Group 3 (Tariff and accounting principles including related telecommunication economic and policy issues). Members of the public will be admitted to the extent that seating is available, and may join in the discussions, subject to the instructions of the Chair. Directions to the meeting location and conference bridge information may be obtained from minardje@state.gov.

The International Telecommunication Advisory Committee (ITAC) will meet on Thursday, June 16, 2005 to initiate preparation of U.S. contributions to ITU-T Study Group 3 (Tariff and accounting principles including related telecommunication economic and policy issues) and discuss other matters associated with U.S. participation in the next Study Group 3 meeting. The meeting will be held at the AT&T Innovation Center, 1133 21st Street, Suite 210, Washington, DC 20036.

Dated: May 25, 2005.
Anne Jillson,
Foreign Affairs Officer, International Communications & Information Policy, Department of State.

[FR Doc. 05-11285 Filed 6-6-05; 8:45 am]

BILLING CODE 4710-09-P